FEDERAL RESERVE SYSTEM

Change in Bank Control Notices; Acquisitions of Shares of a Savings and Loan Holding Company

The notificants listed below have applied under the Change in Bank Control Act (12 U.S.C. 1817(j)) and the Board's Regulation LL (12 CFR Part 238) to acquire shares of a savings and loan holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 16, 2014.

A. Federal Reserve Bank of Richmond (Adam M. Drimer, Assistant Vice President) 701 East Byrd Street, Richmond, Virginia 23261-4528:

1. EREF-MP Alpha, LLC; East Rock Endowment Fund, L.P.; East Rock Capital, LLC; East Rock Capital GP, LLC; D Partners Management, LLC; Shapiro Partners Management, LLC; Graham Duncan and Adam Shapiro, all of New York, New York; and MP Alpha Holdings LLLP, Miami, Florida; to retain voting shares of Bay Bancorp, Inc., Columbia, Maryland, and thereby indirectly retain voting shares of Bay Bank, FSB, Lutherville, Timonium, Maryland.

Board of Governors of the Federal Reserve System, September 26, 2014.
Michael J. Lewandowski,
Associate Secretary of the Board.

[FR Doc. 2014-23326 Filed 9-30-14; 8:45 am]

BILLING CODE 6210-01-P